Proclamation 9817 of October 31, 2018

National Family Caregivers Month, 2018

By the President of the United States of America

A Proclamation

During National Family Caregivers Month, we pay tribute to the millions of Americans across our Nation who selflessly care for family members who are chronically ill, elderly, or who have a disability. We recognize the challenges of caregiving and celebrate the joys of bringing support and comfort to a loved one. We express our gratitude to them for the work they do daily to ensure their loved ones are able to live in their homes and communities.

Family caregivers are the foundation of our country's long-term support system. Every year, nearly 44 million caregivers assist loved ones with a vast array of essential tasks, including eating, bathing, dressing, managing finances, childcare, administering medications, and arranging doctor visits and transportation. In performing these challenging duties with patience and compassion, family caregivers embody selfless service and sacrifice.

My Administration is strongly committed to ensuring that family caregivers have the support they need. Earlier this year, I was pleased to sign into law the RAISE Family Caregivers Act, which will help support the millions of family caregivers across our Nation and the individuals who rely on them. This bipartisan legislation directs the Secretary of Health and Human Services to develop and make available strategies for recognizing and supporting family caregivers. It also establishes an advisory council that will leverage expertise from across my Administration and our Nation to address topics such as respite services and options, workplace flexibility, and financial security. It will also help people navigate the healthcare system and produce further recommendations for supporting family caregivers. Similarly, the Supporting Grandparents Raising Grandchildren Act, which I signed on July 7, 2018, will help our Nation better address the needs of people who provide full-time care for their grandchildren. Sadly, the number of people caring for grandchildren is growing, as the opioid crisis continues to ravage families across our country. I was also pleased to sign into law the VA MISSION Act of 2018, which expands caregiver assistance to eligible veterans who served our country before September 11, 2001.

As anchors for their loved ones, our Nation's family caregivers promote a culture that values the dignity of life at all stages and the importance of family. This month, we acknowledge the dedication and compassion of all those who work to improve their family members' lives, and we renew our commitment to supporting them in their labor of love.

NOW, THEREFORE, I, DONALD J. TRUMP, President of the United States of America, by virtue of the authority vested in me by the Constitution and the laws of the United States, do hereby proclaim November 2018 as National Family Caregivers Month. I encourage all Americans to acknowledge, and express our gratitude to, all who provide compassionate care to enhance the lives of their loved ones in need.

IN WITNESS WHEREOF, I have hereunto set my hand this thirty-first day of October, in the year of our Lord two thousand eighteen, and of the Independence of the United States of America the two hundred and forty-third.

[FR Doc. 2018-24361

Filed 11-5-18; 8:45 am]

Billing code 3295-F9-P